DEPARTMENT OF TRANSPORTATION

Federal Aviation Administration

14 CFR Part 39

[Docket No. FAA-2013-0796; Directorate Identifier 2013-NM-111-AD; Amendment 39-17802; AD 2014-05-30]

RIN 2120-AA64

Airworthiness Directives; The Boeing Company Airplanes

AGENCY: Federal Aviation Administration (FAA), DOT.

ACTION: Final rule.

SUMMARY: We are superseding Airworthiness Directive (AD) 2013-07-07 for all The Boeing Company Model 737-600, -700, -700C, -800, -900, and -900ER series airplanes. AD 2013-07-07 required inspecting to determine the part number of the attach pins of the horizontal stabilizer rear spar, and replacing certain attach pins. This new AD clarifies the parts installation limitation and prohibition, and adds a new requirement for certain airplanes on which certain attach pins were installed. This AD was prompted by inquiries from affected operators regarding the parts installation limitation and prohibition, and re-installation of certain attach pins that were removed for inspection. We are issuing this AD to prevent premature failure of the attach pins, which could cause reduced structural integrity of the horizontal stabilizer to fuselage attachment, resulting in loss of control of the airplane.

DATES: This AD is effective April 25, 2014.

The Director of the Federal Register approved the incorporation by reference of a certain publication listed in this AD as of May 20, 2013 (78 FR 22182, April 15, 2013).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0796; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, FAA, Seattle Aircraft Certification Office, 1601 Lind Avenue SW., Renton, WA 98057-3356; phone: 425-917-6440; fax: 425-917-6590; email: Nancy.Marsh@faa.gov.

SUPPLEMENTARY INFORMATION:

Discussion

We issued a notice of proposed rulemaking (NPRM) to amend 14 CFR part 39 to supersede AD 2013-07-07, Amendment 39-17411 (78 FR 22182, April 15, 2013). AD 2013-07-07 applied to all The Boeing Company Model 737-600, -700, -700C, -800, -900, and -900ER series airplanes. The NPRM published in the Federal Register on September 25, 2013 (78 FR 58982). The NPRM was prompted by inquiries from affected operators regarding the parts installation limitation and prohibition, and re-installation of certain attach pins that were removed for inspection. The NPRM proposed to continue to require inspecting to determine the part number of the attach pins of the horizontal stabilizer rear spar, and replacing certain attach pins. The NPRM also proposed to clarify the parts installation limitation and prohibition, and add a new requirement for certain airplanes on which certain attach pins were installed. We are issuing this AD to prevent premature failure of the attach pins, which could cause reduced structural integrity of the horizontal stabilizer to fuselage attachment, resulting in loss of control of the airplane.

Comments

We gave the public the opportunity to participate in developing this AD. The following presents the comment received on the proposal (78 FR 58982, September 25, 2013) and the FAA's response to each comment.

Clarification of Effect of Winglet Installation

Aviation Partners Boeing stated that the installation of winglets per Supplemental Type Certificate (STC) ST00830SE (http://rgl.faa.gov/Regulatory_and_Guidance_Library/rgstc.nsf/0/408E012E008616A7862578880060456C?OpenDocument&Highlight=st00830se) does not affect the accomplishment of the manufacturer's service instructions.

We concur. Paragraph (c)(2) in AD 2013-07-07, Amendment 39-17411 (78 FR 22182, April 15, 2013), has been restated in this final rule and specifies that STC ST00830SE (http://rgl.faa.gov/Regulatory_and_Guidance_Library/rgstc.nsf/0/408E012E008616A7862578880060456C?OpenDocument&Highlight=st00830se) does not affect the ability to accomplish the actions required by this final rule. Therefore, for airplanes on which STC ST00830SE is installed, a “change in product” alternative method of compliance (AMOC) approval request is not necessary to comply with the requirements of section 39.17 of the Federal Aviation Regulations (14 CFR 39.17).

Conclusion

We reviewed the relevant data, considered the comment received, and determined that air safety and the public interest require adopting this AD as proposed except for minor editorial changes. We have determined that these minor changes:

• Are consistent with the intent that was proposed in the NPRM (78 FR 58982, September 25, 2013) for correcting the unsafe condition; and

• Do not add any additional burden upon the public than was already proposed in the NPRM (78 FR 58982, September 25, 2013).

Costs of Compliance

We estimate that this AD affects 1,050 airplanes of U.S. registry. The new requirements add no significant economic burden over that specified in AD 2013-07-07, Amendment 39-17411 (78 FR 22182, April 15, 2013). Those costs are repeated for the convenience of affected operators, as follows:

Estimated Costs
Action | Labor cost | Parts cost | Cost per product | Cost on U.S. operators
Inspection and attach pin replacement [actions retained from AD 2013-07-07, Amendment 39-17411 (78 FR 22182, April 15, 2013)] | 39 work-hours × $85 per hour = $3,315 | Up to $6,312 | Up to $9,627 | Up to $10,108,350.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-07-07, Amendment 39-17411 (78 FR 22182, April 15, 2013), and adding the following new AD:

2014-05-30 The Boeing Company: Amendment 39-17802; Docket No. FAA-2013-0796; Directorate Identifier 2013-NM-111-AD.

(a) Effective Date

This AD is effective April 25, 2014.

(b) Affected ADs

(1) This AD supersedes AD 2013-07-07, Amendment 39-17411 (78 FR 22182, April 15, 2013).

(2) This AD affects certain requirements of AD 2004-05-19, Amendment 39-13514 (69 FR 10921, March 9, 2004; corrected April 13, 2004 (69 FR 19313)).

(c) Applicability

(1) This AD applies to all The Boeing Company Model 737-600, -700, -700C, -800, -900, and -900ER series airplanes, certificated in any category.

(2) Installation of Supplemental Type Certificate (STC) ST00830SE (http://rgl.faa.gov/Regulatory_and_Guidance_Library/rgstc.nsf/0/408E012E008616A7862578880060456C?OpenDocument&Highlight=st00830se) does not affect the ability to accomplish the actions required by this AD. Therefore, for airplanes on which STC ST00830SE is installed, a “change in product” alternative method of compliance (AMOC) approval request is not necessary to comply with the requirements of 14 CFR 39.17.

(d) Subject

Air Transport Association (ATA) of America Code 55, Stabilizers.

(e) Unsafe Condition

This AD was prompted by inquiries from affected operators regarding the parts installation limitation and prohibition, and re-installation of certain attach pins that were removed for inspection. We are issuing this AD to prevent premature failure of the attach pins, which could cause reduced structural integrity of the horizontal stabilizer to fuselage attachment, resulting in loss of control of the airplane.

(f) Compliance

Comply with this AD within the compliance times specified, unless already done.

(g) Retained Part Number (P/N) Inspection

This paragraph restates the requirements of paragraph (g) of AD 2013-07-07, Amendment 39-17411 (78 FR 22182, April 15, 2013). For airplanes having line numbers 1 through 3534 inclusive: Before the accumulation of 56,000 total flight cycles, or within 3,000 flight cycles after May 20, 2013 (the effective date of AD 2013-07-07), whichever occurs later, inspect to determine the part number of the attach pins of the horizontal stabilizer rear spar. A review of airplane maintenance records is acceptable in lieu of this inspection if the part number of the attach pin can be conclusively determined from that review.

(h) Retained Replacement

This paragraph restates the requirements of paragraph (h) of AD 2013-07-07, Amendment 39-17411 (78 FR 22182, April 15, 2013). If, during the inspection required by paragraph (g) of this AD, any horizontal stabilizer rear spar attach pin has P/N 180A1612-3 or 180A1612-4, prior to the accumulation of 56,000 total flight cycles on the pin, or within 3,000 flight cycles after May 20, 2013 (the effective date of AD 2013-07-07), whichever occurs later, replace with a new attach pin having P/N 180A1612-7 or 180A1612-8, respectively, in accordance with the Accomplishment Instructions of Boeing Special Attention Service Bulletin 737-55-1093, dated April 9, 2012.

(i) Retained Parts Installation Prohibition

This paragraph restates the requirements of paragraph (i)(2) of AD 2013-07-07, Amendment 39-17411 (78 FR 22182, April 15, 2013). For airplanes having line numbers 3535 and subsequent: As of May 20, 2013 (the effective date of AD 2013-07-07), no person may install an attach pin of the horizontal stabilizer rear spar having P/N 180A1612-3 or 180A1612-4 on any airplane.

(j) Retained Terminating Action for AD 2004-05-19, Amendment 39-13514 (69 FR 10921, March 9, 2004; Corrected April 13, 2004 (69 FR 19313))

This paragraph restates the provisions of paragraph (j) of AD 2013-07-07, Amendment 39-17411 (78 FR 22182, April 15, 2013). Accomplishment of the actions required by paragraphs (g) and (h) of this AD terminates the requirements of paragraphs (a), (b), (c), (d), and (e) of AD 2004-05-19, Amendment 39-13514 (69 FR 10921, March 9, 2004; corrected April 13, 2004 (69 FR 19313)), for the rear spar attach pins only.

(k) New Parts Installation Limitation

For airplanes having line numbers 1 through 3534 inclusive: As of the effective date of this AD, an attach pin of the horizontal stabilizer rear spar having P/N 180A1612-3 or 180A1612-4 may be installed on an airplane, provided it is replaced with an attach pin having P/N 180A1612-7 or 180A1612-8, as applicable, prior to the accumulation of 56,000 total flight cycles on the attach pin. The replacement must be done in accordance with the Accomplishment Instructions of Boeing Special Attention Service Bulletin 737-55-1093, dated April 9, 2012.

(l) New Attach Pin Replacement

For airplanes having line numbers 1 through 3534 inclusive on which an attach pin of the horizontal stabilizer rear spar having P/N 180A1612-7 or 180A1612-8 has been replaced with an attach pin having P/N 180A1612-3 or 180A1612-4 before the effective date of this AD: Prior to the accumulation of 56,000 total flight cycles on the attach pin, or within 1,000 flight cycles on the airplane after the effective date of this AD, whichever occurs later, replace the attach pin having P/N 180A1612-3 or 180A1612-4 with an attach pin having P/N 180A1612-7 or 180A1612-8, as applicable, in accordance with the Accomplishment Instructions of Boeing Special Attention Service Bulletin 737-55-1093, dated April 9, 2012.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved previously for AD 2013-07-07, Amendment 39-17411 (78 FR 22182, April 15, 2013), are approved as AMOCs for the corresponding provisions of this AD.

(n) Related Information

For more information about this AD, contact Nancy Marsh, Aerospace Engineer, Airframe Branch, ANM-120S, FAA, Seattle Aircraft Certification Office, 1601 Lind Avenue SW., Renton, WA 98057-3356; phone: 425-917-6440; fax: 425-917-6590; email: Nancy.Marsh@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 20, 2013 (78 FR 22182, April 15, 2013).

(i) Boeing Special Attention Service Bulletin 737-55-1093, dated April 9, 2012.

(ii) Reserved.

(4) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on March 3, 2014.
Michael J. Kaszycki,
Acting Manager, Transport Airplane Directorate, Aircraft Certification Service.

[FR Doc. 2014-05415 Filed 3-20-14; 8:45 am]

BILLING CODE 4910-13-P